DEPARTMENT OF THE TREASURY

Submission for OMB Review; Comment Request

October 6, 2000.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before November 13, 2000 to be assured of consideration.

Internal Revenue Service (IRS)

OMB Number: 1545-1694.

Revenue Ruling Number: Revenue Ruling 2000-35.

Type of Review: Extension.

Title: Automatic Enrollment in Section 403(b) Plans.

Description: Revenue Ruling 2000-35 describes certain criteria that must be met before an employee's compensation can be reduced and contributed to an employer's section 403(b) plan in the absence of an affirmative election by the employee.

Respondents: Not-for-profit institutions, State, Local or Tribal Government.

Estimated Number of Respondents: 100.

Estimated Burden Hours Per Respondent: 1 hour, 45 minutes.

Frequency of Response: On occasion, Annually.

Estimated Total Recordkeeping Burden: 175 hours.

OMB Number: 1545-1695.

Revenue Ruling Number: Revenue Ruling 2000-33.

Type of Review: Extension.

Title: Deferred Compensation Plans of State and Local Governments and Tax-Exempt Organizations.

Description: This revenue ruling specifies the conditions the plan sponsor should meet to automatically defer a certain percentage of its employees' compensation into their accounts in an eligible deferred compensation plan.

Respondents: Not-for-profit institutions, State, Local or Tribal Government.

Estimated Number of Respondents: 500.

Estimated Burden Hours Per Respondent: 1 hour.

Frequency of Response: On occasion, Annually.

Estimated Total Recordkeeping Burden: 500 hours.

Clearance Officer: Garrick Shear, Internal Revenue Service, Room 5244, 1111 Constitution Avenue, NW, Washington, DC 20224.

OMB Reviewer: Alexander T. Hunt, (202) 395-7860, Office of Management and Budget, Room 10202, New Executive Office Building, Washington, DC 20503.

Lois K. Holland,
Departmental Reports, Management Officer.

[FR Doc. 00-26296 Filed 10-12-00; 8:45 am]

BILLING CODE 4830-01-M